DEPARTMENT OF HEALTH AND HUMAN SERVICES

Centers for Disease Control and Prevention

[Program Announcement 02062]

Diabetes Program; Notice of Award of Funds

A. Purpose

The Centers for Disease Control and Prevention (CDC) announces the award of fiscal year (FY) 2002 funds for the diabetes program. The purpose of the program is to reduce the disease and economic burden of diabetes, and improve the quality of life for all persons who have or are at risk for diabetes, through prevention programs. This program addresses the “Healthy People 2010” focus area Diabetes.

B. Eligible Applicants

Assistance is provided only to the organizations listed below. No other applications were solicited. Fiscal Year (FY) 2002 Federal Appropriation specifically directs CDC to award funds to these organizations.

1. Clinica Monsenor Oscar A. Romero in Los Angeles, California for a diabetes care program. ($98,899)

2. Oklahoma Center for the Advancement of Science and Technology in Oklahoma City, Oklahoma for a diabetes and diabetic retinopathy demonstration. ($247,247)

3. University of Arizona in Tuscon for a Border Health Initiative for a Border Health Initiative. ($435,154)

4. Center for Diabetes and Prevention Control at Texas Tech University Health Sciences Center to provide a national model of diabetes outreach, education, prevention, and care. ($493,941)

5. Dakota Plains Diabetes Center for the Standing Rock Sioux Tribe and Cheyenne Sioux Tribe. ($1,582,380)

6. Glaucoma Foundation for a Community Health glaucoma screening to develop a model project to test the efficacy of glaucoma screening using mobile units. ($2,613,445)

C. Funds

Approximately $5,471,066 is being awarded in FY 2002. The awards will begin on or about September 1, 2002, and will be made for a 12-month budget period within a project period of one year.

D. Where To Obtain Additional Information

Business management technical assistance may be obtained from: Angela Webb, Grants Management Specialist, Procurement and Grants Office, Centers for Disease Control and Prevention, 2920 Brandywine Road, Room 3000, Atlanta, GA 30341-4146, Telephone: 770-488-2784, e-mail: aqw6@cdc.gov.

For program technical assistance, contact: Dara Murphy, Division of Diabetes Translation, Centers for Disease Control and Prevention, 4770 Burford Highway, NE, MS K-57, Atlanta, GA 30341, Telephone: 770-488-5193, e-mail: dlm1@cdc.gov.

Dated: October 21, 2002.
Sandra R. Manning,
Director, Procurement and Grants Office, Centers for Disease Control and Prevention.

[FR Doc. 02-27554 Filed 10-29-02; 8:45 am]

BILLING CODE 4163-18-P